COMMITTEE FOR PURCHASE FROM PEOPLE WHO ARE BLIND OR SEVERELY DISABLED

Procurement List; Additions and Deletions

AGENCY: Committee for Purchase From People Who Are Blind or Severely Disabled.

ACTION: Additions to and deletions from Procurement List.

SUMMARY: This action adds to the Procurement List a product and a service to be furnished by nonprofit agencies employing persons who are blind or have other severe disabilities, and deletes from the Procurement List products previously furnished by such agencies.

EFFECTIVE DATE: July 10, 2005.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, telephone: (703) 603-7740, Fax: (703) 603-0655, or e-mail SKennerly@jwod.gov.

SUPPLEMENTARY INFORMATION:

Additions

On March 11, and April 15, 2005, the Committee for Purchase From People Who Are Blind or Severely Disabled published notice (70 FR 12179, and 19924) of proposed additions to the Procurement List.

After consideration of the material presented to it concerning capability of qualified nonprofit agencies to provide the products and services and impact of the additions on the current or most recent contractors, the Committee has determined that the product and service listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product and service to the Government.

2. The action will result in authorizing small entities to furnish the product and service to the Government.

3. There are no known regulatory alternatives which would accomplish the objectives of the Javits-Wagner-O'Day Act (41 U.S.C. 46-48c) in connection with the product and service proposed for addition to the Procurement List.

End of Certification

Accordingly, the following product and service are added to the Procurement List:

Product

Glow Plug

NSN: 2920-01-151-3627—Glow Plug.

NPA: Shares Inc., Shelbyville, Indiana.

Contracting Activity: Defense Supply Center Columbus, Columbus, Ohio.

Service

Service Type/Location: Mailing Services, Government Printing Office—Laurel Warehouse, 8610 & 8660 Cherry Lane, Laurel, Maryland.

NPA: Alliance, Inc., Baltimore, Maryland.

Contracting Activity: Government Printing Office, Washington, DC.

Deletions

On April 15, 2005, the Committee for Purchase From People Who Are Blind or Severely Disabled published notice (70 FR 19924) of proposed deletions to the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

Flashlight

NSN: 6230-01-513-3288—Flashlight, Aluminum, 5D, Red.

NSN: 6230-01-513-3287—Flashlight, Aluminum, 5D, Blue.

NSN: 6230-01-513-3291—Flashlight, Aluminum, 4D, Blue.

NSN: 6230-01-513-3273—Flashlight, Aluminum, 3D, Red.

NSN: 6230-01-513-3301—Flashlight, Aluminum, 5D, Silver.

NSN: 6230-01-513-3308—Flashlight, Aluminum, 4D, Silver.

NSN: 6230-01-513-3270—Flashlight, Aluminum, 3D, Silver.

NPA: Central Association for the Blind & Visually Impaired, Utica, New York.

Contracting Activity: Office Supplies & Paper Products Acquisition Center, New York, NY.

Pen, Gel, Executive.

NSN: 7520-00-NIB-1491—Pen, Gel, Executive.

NPA: West Texas Lighthouse for the Blind, San Angelo, Texas.

Contracting Activity: Office Supplies & Paper Products Acquisition Center, New York, NY.

Super Disk LS-120 Imation.

NSN: 7045-01-455-2291—Super Disk LS-120 Imation.

NPA: North Central Sight Services, Inc., Williamsport, Pennsylvania.

Contracting Activity: Defense Supply Center Philadelphia, Philadelphia, Pennsylvania.

Test Kit, Oil Condition.

NSN: 6630-01-096-4792—Test Kit, Oil Condition.

NPA: Susquehanna Association for the Blind and Visually Impaired, Lancaster, Pennsylvania.

Contracting Activity: Defense Supply Center Philadelphia, Philadelphia, Pennsylvania.

Sheryl D. Kennerly,
Director, Information Management.

[FR Doc. E5-3009 Filed 6-9-05; 8:45 am]

BILLING CODE 6353-01-P